DEPARTMENT OF THE INTERIOR

National Park Service

Kaloko-Honokohau National Historical Park Advisory Commission; Notice of Meeting

Notice is hereby given in accordance with the Federal Advisory Committee Act that a meeting of the Na Hoapili O Kaloko Honokohau, Kaloko-Honokohau National Historical Park Advisory Commission will be held at 9 a.m., November 22, 2004 at the King Kamehameha's Kona Beach Hotel, Marina Room, Kailua-Kona, Hawaii.

The agenda will include planning for Live-In Center Workshop and discussion on the park's boundary. There will also be a visit to the park if time permits.

The meeting is open to the public. The hotel is accessible to persons with disabilities. Disabled persons requiring special assistance should contact the Superintendent at (808) 329-6881 ext 7, 7 days prior to the meeting.

Minutes will be recorded for documentation and transcribed for dissemination. Minutes of the meeting will be available to the public after approval of the full Advisory Commission. Transcripts will be available after 30 days of the meeting.

For copies of the minutes, contact Kaloko-Honokohau National Historical Park at (808) 329-6881.

Dated: September 24, 2004.
Geraldine K. Bell,
Superintendent, Kaloko-Honokohau National Historical Park.

[FR Doc. 04-24175 Filed 10-28-04; 8:45 am]

BILLING CODE 4310-70-M